DEPARTMENT OF COMMERCE

Bureau of Industry and Security

Proposed Information Collection; Comment Request; Thermal Imaging Camera Reporting

AGENCY: Bureau of Industry and Security.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 31, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Larry Hall, BIS ICB Liaison, (202) 482-4896, lhall@bis.doc.gov.

SUPPLEMENTARY INFORMATION:

I. Abstract

The U.S. Government is preparing to remove the export licensing requirement for certain thermal imaging cameras to certain destinations. A new biannual reporting requirement will be imposed to allow the USG to verify that the cameras are continuing to be sold to appropriate end-users and that the relaxation in controls is not jeopardizing U.S. national security or foreign policy interests.

In June of 2007, the Bureau of Industry and Security (BIS) received emergency preapproval for this collection of information. However, the final version of the associated rule “Revisions to License Requirements and License Exception Eligibility for Certain Thermal Imaging Cameras and Focal Plane Arrays,” has not yet been published. BIS is seeking renewal of this collection authority so that publication of the final rule will not be further delayed by a lapse in the collection authority.

II. Method of Collection

The biannual reports are paper format and will be accepted via e-mail, facsimile or mail delivery.

III. Data

OMB Control Number: 0694-0133.

Form Number(s): None.

Type of Review: Business or other for-profit organizations.

Estimated Number of Respondents: 30.

Estimated Time Per Response: 1 hour.

Estimated Total Annual Burden Hours: 60.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 25, 2007.
Gwellnar Banks,
Management Analyst, Office of the Chief Information Officer.

[FR Doc. E7-21346 Filed 10-29-07; 8:45 am]

BILLING CODE 3510-DT-P